FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 2, 2004.

A. Federal Reserve Bank of New York (Jay Bernstein, Bank Supervision Officer) 33 Liberty Street, New York, New York 10045-0001:

1. Lindrew Properties and Barry M. Snyder, both of Buffalo, New York, and Andrew Snyder and Linsey Snyder of New York, New York, together as a group acting in concert, to acquire voting shares of Great Lake Bancorp, Inc., Buffalo, New York, and thereby indirectly acquire shares of Greater Buffalo Savings Bank, Buffalo, New York.

Board of Governors of the Federal Reserve System, February 10, 2004.
Robert deV. Frierson,
Deputy Secretary of the Board.

[FR Doc. 04-3308 Filed 2-13-04; 8:45 am]

BILLING CODE 6210-01-S